DEPARTMENT OF THE INTERIOR

Bureau of Land Management

[16X.LLAKF02000. L51010000. ER0000. LVRWL16L0980]

Notice of Intent and Extension of Time To Prepare an Environmental Impact Statement for the Proposed Ambler Mining District Industrial Access Road, Alaska

AGENCY: Bureau of Land Management, Interior.

ACTION: Notice of intent and extension of time.

SUMMARY: In accordance with the National Environmental Policy Act of 1969, as amended (NEPA), the Federal Land Policy and Management Act of 1976, as amended (FLPMA), and the Alaska National Interest Lands Conservation Act of 1980, as amended (ANILCA), the Bureau of Land Management (BLM) Central Yukon Field Office, Fairbanks, Alaska, intends to prepare an Environmental Impact Statement (EIS) for Federal authorizations to construct and operate an approximately 211-mile long industrial access road in the southern Brooks Range foothills of Alaska, originating at the Dalton Highway in the vicinity of Prospect Creek and terminating at the Ambler Mining District, which would not be open for public access. By this notice, the BLM is announcing the beginning of the EIS scoping process to solicit public comments and identify issues, and is extending the periods to complete the Draft and Final EIS, in accordance with ANILCA section 1104(e).

DATES: This notice initiates the public scoping process for the EIS, and extends completion dates for the Draft and Final EIS. Comments on relevant issues that will influence the scope of the EIS for the proposed Ambler Road project may be submitted in writing until May 30, 2017. The BLM will provide opportunities for public participation during scoping meetings with appropriate public notice. The date(s) and location(s) of scoping meetings will be announced at least 15 days in advance through local media, newspapers, and the BLM ePlanning Web site at: https://eplanning.blm.gov/epl-front-office/eplanning/projectSummary.do?methodName=renderDefaultProjectSummary&projectId=57323.

In order to be considered for the Draft EIS, all comments must be received prior to the close of the 90-day scoping period or 15 days after the last public scoping meeting, whichever is later. The BLM will provide additional opportunities for public participation upon publication of the Draft EIS, including public meetings and a public comment period. If required, ANILCA section 810 subsistence hearings will be held concurrently with the Draft EIS public involvement meetings. Federal, State or local agencies, or tribes who are interested in serving as a cooperating agency for the development of the EIS are asked to submit such requests to the BLM.

The dates for completion of the Draft EIS and Final EIS are extended to March 29, 2019, and December 30, 2019, respectively.

ADDRESSES: You may submit comments on issues related to the proposed project by any of the following methods:

• email: BLM_AK_AKSO_AmblerRoad_Comments@blm.gov.

• fax: (907) 271-5479.

• mail: Ambler Road Scoping Comments, 222 West 7th Avenue, Stop #13, Anchorage, Alaska 99513.

Documents pertinent to this proposal may be examined at the BLM Alaska Public Room, Fairbanks District Office, 222 University Avenue, Fairbanks, Alaska 99709; and at the BLM Alaska Public Information Center, Alaska State Office, 222 West 7th Avenue, Anchorage, Alaska 99513.

FOR FURTHER INFORMATION CONTACT: Tim LaMarr; Central Yukon Field Office Manager, 907-474-2356, tlamarr@blm.gov. Also contact Mr. LaMarr if you wish to add your name to the mailing list to receive further information about this project. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: On November 24, 2015, the Alaska Industrial Development and Export Authority (AIDEA) submitted a consolidated application pursuant to ANILCA sections 201(4)(c) and 1104(c) with the BLM, National Park Service, U.S. Coast Guard, and U.S. Army Corps of Engineers. The application requests the issuance of right-of-way grants, permits for constructing bridges over navigable waters and for filling waters of the United States, and related authorizations associated with the proposed construction and operation of an approximately 211-mile long all-season industrial access road. The proposed controlled access road is named the Ambler Mining District Industrial Access Project.

After submission of supplemental information on June 30, 2016, the application was determined to be complete. The proposed access road, if approved, would be in conformance with the BLM's 1991 Utility Corridor Resource Management Plan and the 2008 Kobuk-Seward Peninsula Resource Management Plan. Accordingly, no plan amendment would be required. In accordance with 43 CFR 36.5(d)(1), the filing date of the application was revised to June 30, 2016. BLM is the lead Federal agency in the development of an EIS for the proposed project. The list of cooperating agencies in the development of the EIS currently includes the U.S. Coast Guard, U.S. Army Corps of Engineers, and the State of Alaska.

Pursuant to 40 CFR 1502.4, the EIS is being prepared for the purpose of authorizing a BLM right-of-way grant and related authorizations to AIDEA for the construction, operation, and maintenance of the proposed road, as well as required permits from the U.S. Coast Guard and U.S. Army Corps of Engineers.

The proposed road would extend from the Dalton Highway in the vicinity of Prospect Creek to the Ambler Mining District in the Kobuk Valley of Northwest Alaska, which is located approximately 180 miles north of Fairbanks in the southern Brooks Range foothills of Alaska. The road would begin on BLM-managed lands within the Dalton Highway Utility Corridor would continue for approximately 18 miles. The road would then extend across State land and lands privately owned by Alaska Native corporations, and isolated BLM-managed parcels. The proposed road would cross roughly 24 miles of BLM-managed lands in total. In addition, approximately 26 miles of the proposed road would cross the Gates of the Arctic National Preserve, a conservation system unit (CSU) established by ANILCA section 201(4). This section of ANILCA specifically directs the Secretary of the Interior to authorize the road through the Preserve but does not address other public lands.

The purpose of the public scoping process is to determine relevant issues that will influence the scope of the environmental analysis, including alternatives, and to guide the process for developing the EIS. At present, the BLM has identified the following preliminary issues for evaluation in the EIS:

• Air quality

• climate change effects

• invasive species

• mining

• recreational activities

• social and economic impacts

• impacts to rural and traditional lifestyles

• subsistence use and access

• travel management

• public access

• wildlife and biological resources

• special status species

• fish and aquatic species

• water

• wetlands and riparian

• wilderness characteristics

• cultural resources

• geology and soils

• critical minerals

• demand for gravel resources

• reasonably foreseeable future activities

The BLM will identify, analyze, and require mitigation, as appropriate, to address the reasonably foreseeable impacts to resources from the approval of this project. Mitigation may include avoidance, minimization, rectification, reduction or elimination over time, and compensatory mitigation, and may be considered at multiple scales, including the landscape-scale.

The BLM will utilize and coordinate the NEPA scoping process to help fulfill the public involvement process under the National Historic Preservation Act (NHPA) Public Law 89-665, as amended by Public Law 96-515, and as provided in 36 CFR 800.2(d)(3). The information about historic and cultural resources within the area potentially affected by the proposed action will assist the BLM in identifying and evaluating impacts to such resources.

The BLM intends to coordinate the development of the EIS with the National Park Service, which, in accordance with ANILCA section 201(4)(d), is developing a separate environmental and economic analysis solely for the purpose of determining the most desirable route for that portion of the proposed road right-of-way that would cross Gates of the Arctic National Preserve.

The BLM will consult with affected Federally Recognized Tribes on a government-to-government basis, and with affected Alaska Native corporations, in accordance with Executive Order 13175 and other policies. Native concerns, including impacts on Indian trust assets and potential impacts to cultural resources, will be given appropriate consideration. Federal, State, and local agencies, along with tribes and other stakeholders that may be interested in or affected by the proposed project, are invited to participate in the scoping process and, if eligible, may request or be asked by the BLM to participate in the development of the EIS as cooperating agencies.

Pursuant to ANILCA section 1104(e), a Draft EIS must be completed within nine months of the application filing date, and the Final EIS must be completed within one year of the application filing date, unless these periods are extended for good cause by the lead Federal agency. Due to the size and complexity of the proposed project, multiple land managers along the approximately 211-mile route, and the BLM's commitment to work with several relatively isolated rural communities potentially affected by the proposed project, an extension of the timeline is necessary to meet the intent and purpose of NEPA and provide appropriate public involvement. Accordingly, the date for completion of the Draft EIS is extended to March 29, 2019, and the date for completion of the Final EIS is extended to December 30, 2019.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Bud Cribley,
State Director.

[FR Doc. 2017-03993 Filed 2-27-17; 8:45 am]

BILLING CODE 4310-JA-P